DEPARTMENT OF ENERGY

Federal Energy Regulatory Commission

[ Docket Nos. ER11-2256-000; ER11-3149-000; ER11-3856-000; ER11-4384-000; ER11-4384-000]

California Independent System Operator Corporation; Notice of FERC Staff Attendance

The Federal Energy Regulatory Commission (Commission) hereby gives notice that on the following dates members of its staff will participate in teleconferences and meetings to be conducted by the California Independent System Operator (CAISO). The agenda and other documents for the teleconferences and meetings are available on the CAISO's Web site, http://www.caiso.com.

September 1, 2011 | Fall 2011 Release Market Simulation, Renewables Integration Market and Product Review.
September 6, 2011 | Release User Group, Flexible Ramping Constraint Draft Tariff Language, Circular Scheduling Straw Proposal.
September 7, 2011 | Settlements and Market Clearing User Group, ISO Stakeholder Symposium, Congestion Revenue Rights.
September 8, 2011 | Fall 2011 Release Market Simulation, ISO Stakeholder Symposium Market Update.
September 12, 2011 | Fall 2011 Release Market Simulation, Renewables Integration Market and Product Review.
September 13, 2011 | Technical User Group, Local Market Power Mitigation Enhancements.
September 14, 2011 | Settlements and Market Clearing User Group, Congestion Revenue Rights, Market Performance and Planning Forum, Outage Management System Business Requirements.
September 15, 2011 | Fall 2011 Release Market Simulation.

Sponsored by the CAISO, the teleconferences and meetings are open to all market participants, and staff's attendance is part of the Commission's ongoing outreach efforts. The teleconferences and meetings may discuss matters at issue in the above captioned dockets.

For further information, contact Saeed Farrokhpay at saeed.farrokhpay@ferc.gov; (916) 294-0322 or Maury Kruth at maury.kruth@ferc.gov, (916) 294-0275.

Dated: August 31, 2011.
Kimberly D. Bose,
Secretary.

[FR Doc. 2011-22817 Filed 9-6-11; 8:45 am]

BILLING CODE 6717-01-P